DEPARTMENT OF DEFENSE

Department of the Army, Corps of Engineers

Intent To Prepare a Draft Supplemental Environmental Impact Statement (DSEIS) for the Flood Damage Reduction in Clear Creek, Texas as Published in House Document 351, 90th Congress, Second Session

AGENCY: U.S. Army Corps of Engineers, DoD.

ACTION: Notice of intent.

SUMMARY: The proposed action to be addressed in the DSEIS is the evaluation of alternatives for flood damage reduction in Clear Creek, Texas. The alternatives will be derived from a General Reevaluation Report study, which will focus on developing an array of structural (channel modification, bypass channel, bridge alteration, levee, detention basin, etc). components from which detailed alternative plans can be developed. Nonstructural alternatives will be developed where possible.

The local sponsors for the project are Galveston County, Harris County Flood Control District, and Brazoria County Drainage District No. 4.

FOR FURTHER INFORMATION CONTACT: Questions about the proposed action and DSEIS can be answered by: Mr. Donald R. Allen, (409) 766-3051, Project Manager, Project Management Branch, or Mr. John C. Baker, (409) 766-3037, Environmental Lead, Environment Section, Planning and Environmental Branch, P.O. Box 1229, Galveston, Texas 77553-1229.

SUPPLEMENTARY INFORMATION: 1. The study process began in June 1999.

2. A “No Action” alternative will be evaluated and presented for comparison purposes in evaluating the various construction alternatives.

3. Scoping: The scoping process will involve Federal, State, and local agencies, and other interested persons and organizations. A series of scoping workshops will be conducted to discuss various issues associated with the flood control project. Separate Scoping Notices will be issued for the various workshops. Issues to be considered in this process include riparian and wetland impacts, changes in water and sediment quality, erosion along the channel, and threatened and endangered species impacts.

Any person or organization wishing to provide information on issues or concerns should contact the Corps of Engineers at the above address.

4. Coordination: Further coordination with environmental agencies will be conducted under the Fish and Wildlife Coordination Act, Endangered Species, Act, Clean Water Act, National Historic Preservation Act, Magnuson-Stevens Fishery Conservation and Management Act (Essential Fish Habitat), and the Coastal Zone Management Act (Texas Coastal Management Program). An Interagency Coordination Team will be formed to provide guidance and counsel on matters relating to the evaluation of environmental impacts of this project.

5. DSEIS Preparation: It is estimated that the DSEIS will be available to the public for review and comment in August 2002.

Luz D. Ortiz,
Army Federal Register Liaison Officer.

[FR Doc. 01-11467 Filed 5-4-01; 8:45 am]

BILLING CODE 3710-52-M